DEPARTMENT OF AGRICULTURE

Forest Service

Environmental Statements; Notice of Intent: Salmon-Challis National Forest, ID

AGENCY: USDA-Forest Service, Intermountain Region, Salmon-Challis National Forest.

ACTION: Notice of Intent to extend the comment period on the Supplemental Draft Environmental Impact Statement (EIS) for the programmatic wilderness plan.

SUMMARY: The Forest Service will extend the comment period for the Supplemental Draft Environmental Impact Statement for the Frank Church—River Of No Return Wilderness management plan for one month. The comment period was set to expire on February 1, 2000. The comment period will be extended to March 1, 2000. The Notice of Intent to prepare a Draft Environmental Impact Statement for Frank-Church River Of No Return Wilderness was published in the Federal Register December 7, 1994. The Forest Service prepared a Draft Environmental Impact Statement for the Frank-Church River Of No Return Wilderness and released it for public comment in January 1998. Following a lengthy public comment period the Forest Service prepared a Supplemental Draft Environmental Impact Statement. The supplement was released in September 1999 with a comment period to end February 1, 2000. Because of requests from various interested parties and individuals the Forest Service will extend the comment period until March 1, 2000. Written comments will be used in developing the Final Environmental Impact Statement for the Frank Church—River Of No Return Wilderness management plan.

Written comments concerning this extension or the supplemental analysis described in this Notice should be received by March 1, 2000 to ensure timely consideration. Additional public meetings are not planned at this time.

EFFECTIVE DATE: February 1, 2000.

FOR FURTHER INFORMATION CONTACT: Questions concerning the supplement and the Frank Church-River Of No Return Wilderness management plan should be directed to Ken Wotring, Wilderness Coordinator, Salmon-Challis National Forest, RR 2, Box 600, Salmon, Idaho 83467, telephone 208-756-5100.

SUPPLEMENTARY INFORMATION: The Forest Service is seeking information and comments from the Federal, State, and local agencies, as well as individuals and organizations who may be interested in, or affected by, the proposed action. The Forest Service invites written comments and suggestions on the issues related to the analysis and the area being analyzed. Information received will be used in preparation of the Final EIS. For the most effective use, comments should be submitted to the USDA-Forest Service by March 1, 2000. The Responsible Official is George Matejko, Forest Supervisor, Salmon-Challis National Forest. Reviewers may wish to refer to the Council on Environmental Quality Regulations for implementing the procedural provisions of the National Environmental Policy Act at 40 CFR 1503.3 in preparing their responses. Comments received in response to this solicitation, including names and addresses of those who comment, will be considered part of the public record on this proposed action and will be available for public inspection. Comments submitted anonymously will be accepted and considered, however, those who submit anonymous comments will not have standing to appeal the subsequent decision under 36 CFR 215 or 217. Additionally, pursuant to 7 CFR 1.27(d), any person may request the agency to withhold a submission from the public record by showing how the Freedom of Information Act (FOIA) permits such confidentiality. Persons requesting such confidentiality should be aware that, under the FOIA, confidentiality may be granted in only limited circumstances, such as to protect trade secrets. The Forest Service will inform the requester of the agency's decision regarding the request for confidentiality, and where the request is denied, the agency will return the submission and notify the requester that the comments may be submitted with or without name and address within 10 days.

George Matejko,
Forest Supervisor.

[FR Doc. 00-2317 Filed 2-2-00; 8:45 am]

BILLING CODE 3410-11-M